DEPARTMENT OF THE TREASURY

Submission for OMB Review; Comment Request

October 24, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 1, 2005 to be assured of consideration.

Internal Revenue Service (IRS)

OMB Number: 1545-1414.

Type of Review: Extension.

Title: Credit for Employer Social Security and Medicare Taxes Paid on Certain Employee Tips.

Form: IRS form 8846.

Description: Employers in food or beverage establishments where tipping is customary can claim an income tax credit for the amount of social security and Medicare taxes paid (employer's share) on tips, other than tips used to meet the minimum wage requirements.

Respondents: Business or other for-profit.

Estimated Total Burden Hours: 492,465 hours.

Clearance Officer: Glenn P. Kirkland, (202) 622-3428. Internal Revenue Service, Room 6516, 1111 Constitution Avenue, NW., Washington, DC 20224.

OMB Reviewer: Alexander T. Hunt, (202) 395-7316. Office of Management and Budget, Room 10235, New Executive Office Building, Washington, DC 20503.

Michael A. Robinson,
Treasury PRA Clearance Officer.

[FR Doc. 05-21742 Filed 10-31-05; 8:45 am]

BILLING CODE 4830-01-P